Proclamation 9459 of May 31, 2016

National Oceans Month, 2016

By the President of the United States of America

A Proclamation

Covering more than 70 percent of the earth's surface, oceans have a profound impact on our way of life. Home to a great diversity of plant and animal species, their precious ecosystems provide food and energy that are integral to our survival. In bringing tourism and recreation to coastal areas, oceans are important to America's economy, and they help facilitate trade and transportation, give mobility to our Armed Forces, and preserve our Nation's maritime heritage. In observation of National Oceans Month, we recommit to good ocean stewardship and redouble our efforts to preserve the health and resilience of our vast oceans, coasts, and Great Lakes.

Jeopardizing marine populations and degrading oceanic habitats, pollution poses a significant risk to all of our interconnected oceans. Oceans and their nearby regions are also highly vulnerable to the effects of a changing climate—a once-distant threat that is now very present and is affecting ecosystems and shoreline communities on every coast. Rising sea levels, coastal storms, and a growing risk of erosion and flooding are looming realities faced by seaside towns. It is critical that we take measures to safeguard our blue planet and heed the urgency to defend against these mounting threats, particularly in the Arctic where the effects of a changing climate are already swiftly accelerating.

In collaboration with stakeholders; scientists; businesses; and State, tribal, and local partners, my Administration is continuing to implement the National Ocean Policy, a coordinated effort to support local communities, strengthen our ocean economy, and improve the health of our oceans. We are concentrating on key areas outlined in our 2016 Annual Work Plan, including combatting illegal, unregulated, and unreported fishing and monitoring significant changes in the acidity of our oceans. We are also focused on reducing the toxic effects of harmful algal blooms, which occur when algae grow too rapidly and threaten the safety of our food, drinking water, and air quality. Using the science-based roadmap laid out in the National Ocean Policy, we are dedicated to enhancing the economic and ecological sustainability of our oceans and advancing our knowledge of how they influence and are influenced by human activity.

This month, let us continue the work of ensuring the well-being of these grand bodies of water and the communities that depend on them. As we celebrate the immense beauty and power of our oceans, we are reminded of our shared responsibility to protect them—now and for generations to come.

NOW, THEREFORE, I, BARACK OBAMA, President of the United States of America, by virtue of the authority vested in me by the Constitution and the laws of the United States, do hereby proclaim June 2016 as National Oceans Month. I call upon Americans to take action to protect, conserve, and restore our oceans, coasts, and Great Lakes.

IN WITNESS WHEREOF, I have hereunto set my hand this thirty-first day of May, in the year of our Lord two thousand sixteen, and of the Independence of the United States of America the two hundred and fortieth.

[FR Doc. 2016-13364

Filed 6-2-16; 11:15 am]

Billing code 3295-F6-P